DEPARTMENT OF THE INTERIOR

Bureau of Reclamation

Nimbus Hatchery Fish Passage Project, Lower American River, California

AGENCY: Bureau of Reclamation, Interior.

ACTION: Notice of availability of the Draft Environmental Impact Statement/Environmental Impact Report (EIS/EIR) and notice of public meetings.

SUMMARY: Pursuant to the National Environmental Policy Act (NEPA) and the California Environmental Quality Act (CEQA), the Bureau of Reclamation, the lead Federal agency, and the California Department of Fish and Game (CDFG), acting as the lead State agency, have made available for public review and comment a Draft EIS/EIR for the Nimbus Hatchery Fish Passage Project (Project). The purpose of the Project is to create and maintain a reliable system for collecting adult fish at the Nimbus Fish Hatchery (Hatchery). Reclamation maintains the Hatchery to meet mitigation obligations for spawning areas blocked by construction of Nimbus Dam. CDFG operates the Hatchery under a contract with Reclamation and is responsible for the management of the fishery resources within the adjacent lower American River. The Hatchery was constructed in 1955 under the American River Basin Development Act (October 14, 1949, 63 Stat. 852) along with Nimbus and Folsom Dams. The Draft EIS/EIR describes and presents the environmental effects of three action alternatives and the No-Action Alternative. Written comments will be accepted from agencies, organizations and individuals on the Draft EIS/EIR.

DATES: Submit written comments on the Draft EIS/EIR by November 30, 2010.

Public meetings will be held to receive comments on the Draft EIS/EIR and provide further clarification regarding the Project on Thursday, November 4, 2010 from 2 to 3:30 p.m. and from 6:30 to 8 p.m.

ADDRESSES: Send written comments on the Draft EIS/EIR to Mr. David Robinson, Central California Area Office, Bureau of Reclamation, 7794 Folsom Dam Road, Folsom, CA 95630-1799; or e-mail at IBRFOODHatchPass@usbr.gov.

Public meetings will be held at the California State University Sacramento Aquatic Center, 1901 Hazel Avenue, Gold River, CA 95670.

Copies of the Draft EIS/EIR may be requested from Ms. Janet Sierzputowski at 916-978-5112, TTY 916-978-5608, or e-mail at jsierzputowski@usbr.gov. The Draft EIS/EIR is also accessible from the following Web sites: http://www.usbr.gov/mp/nepa/nepa_projdetails.cfm?Project_ID=5216 or http://www.usbr.gov/mp/ccao/hatchery/index.html.

See the SUPPLEMENTARY INFORMATION section for locations where copies of the Draft EIS/EIR are available for public review.

FOR FURTHER INFORMATION CONTACT: Mr. David Robinson at the CCAO general telephone number 916-988-1707, TTY 916-989-7285, or e-mail at IBR2FOODHatchPass@usbr.gov.

SUPPLEMENTARY INFORMATION: The Draft EIS/EIR documents the direct, indirect and cumulative effects to the physical, biological, and socioeconomic environment that may result from construction of the Project.

The purpose of the Project is to create and maintain a reliable system for collecting adult fish to assist Reclamation in meeting mitigation obligations for spawning areas blocked by the construction of Nimbus Dam. Other objectives are to (1) minimize annual operations and maintenance costs, (2) eliminate the need to reduce river flows for weir superstructure repairs, maintenance, and annual installation, which in turn increases operational flexibility, and (3) improve public and worker safety.

The Draft EIS/EIR evaluates three action alternatives and the No-Action alternative. Alternative 1 consists of the construction of a new fish passageway from the Hatchery to an area near the south end of the Nimbus Dam stilling basin, removal of the existing fish diversion weir, and potential modification of fishing regulations. The removal of the existing weir would allow the fish to access the stilling basin area. Because of the potential for fishing to significantly impact fishery resources, two regulatory options, Alternatives 1A and 1C, are being considered. CDFG is evaluating potential changes in fishing regulations to help protect spawning salmon and steelhead and to maintain fish passage to the hatchery. Reclamation is evaluating potential changes in public access to the stilling basin that best meet project purposes.

Alternative 2 involves replacing the existing fish diversion weir with a new weir immediately upstream of its current location. The existing permanent and seasonal fishing closures would remain in effect, unchanged. However, a new weir would be much more effective in preventing fish from entering the river and stilling basin upstream from the Hatchery.

The No-Action Alternative would be the continuation of the existing regulatory conditions. The existing weir would not be replaced. The existing permanent and seasonal fishing closures would remain in effect, unchanged.

Copies of the Draft EIS/EIR are available for public review at the following locations:

• Bureau of Reclamation, Mid-Pacific Region, Regional Library, 2800 Cottage Way, Sacramento, CA 95825.

• Central California Area Office, Bureau of Reclamation, 7794 Folsom Dam Road, Folsom, CA 95630.

• Nimbus Fish Hatchery, 2001 Nimbus Road, Gold River, CA 95670.

Special Assistance for Public Meetings

If special assistance is required to participate in the public meetings, please contact Ms. Janet Sierzputowski at 916-978-5112, TTY 916-978-5608, or e-mail jsierzputowski@usbr.gov. Please notify Ms. Sierzputowski as far in advance as possible to enable Reclamation to secure the needed services. If a request cannot be honored, the requestor will be notified.

Public Disclosure

Before including your name, address, phone number, e-mail address, or other personal identifying information in your comment, you should be aware that your entire comment—including your personal identifying information—may be made publicly available at any time. While you can ask us in your comment to withhold your personal identifying information from public review, we cannot guarantee that we will be able to do so.

Dated: March 11, 2010.
Pablo R. Arroyave,
Deputy Regional Director, Mid-Pacific Region.

Editorial Note: This document was received in the Office of the Federal Register on September 27, 2010.

[FR Doc. 2010-24609 Filed 9-30-10; 8:45 am]

BILLING CODE 4310-MN-P